DEPARTMENT OF TRANSPORTATION

Coast Guard

33 CFR Part 117

[CGD11-01-005]

Drawbridge Operating Regulation; Sacramento River, CA

AGENCY: Coast Guard, DOT.

ACTION: Notice of temporary deviation from regulations.

SUMMARY: The Commander, Eleventh Coast Guard District, has approved a temporary deviation to the regulations governing the opening of the Rio Vista highway drawbridge at mile 12.8 over the Sacramento River, Sacramento County, CA. The drawbridge need not open for vessel traffic at night from March 18 through April 2, 2001. Scheduled closure times are Sunday night through Friday morning from 10 p.m. until 5 a.m., and Friday night through Sunday morning from 11 p.m. until 6 a.m. This deviation is to allow California Department of Transportation to perform essential maintenance and seismic retrofit on the bridge.

DATES: The temporary deviation is effective from 12:01 a.m., March 18, 2001, through 11:59 p.m., April 2, 2001.

FOR FURTHER INFORMATION CONTACT: David H. Sulouff, Chief, Bridge Section; Eleventh Coast Guard District, Bldg. 50-6, Coast Guard Island, Alameda, CA 94501-5100, telephone (510) 437-3516.

SUPPLEMENTARY INFORMATION: The Rio Vista drawbridge, mile 12.8, over the Sacramento River, Sacramento County, CA, provides 17.8 feet vertical clearance above Mean High Water when closed. On March 1, 2001, the Coast Guard received the request from the California Department of transportation for the temporary deviation from the existing operating regulation in 33 CFR 117.5, which requires drawbridge to open promptly and fully when a request to open is given.

This deviation has been coordinated with commercial operators and various marinas on the waterway. No objections were received. Vessels that can pass under the bridge without an opening may do so at all times. In accordance with 33 CFR 117.35(c), this work shall be performed with all due speed in order to return the bridge to normal operation as soon as possible. This deviation from the normal operating regulations in 33 CFR 117.5 is authorized in accordance with the provisions of 33 CFR 117.35.

Dated: March 15, 2001.
C.D. Wurster,
U.S. Coast Guard, Acting Commander, Eleventh Coast Guard District.

[FR Doc. 01-7199 Filed 3-22-01; 8:45 am]

BILLING CODE 4910-15-M